DEPARTMENT OF AGRICULTURE

Forest Service

Tahoe National Forest; Placer County, California; Squaw Valley to Alpine Meadows Base-to-Base Gondola Project

AGENCY: Forest Service, USDA.

ACTION: Notice of intent to prepare an environmental impact statement.

SUMMARY: In September 2015, the Tahoe National Forest (TNF) accepted an application from Squaw Valley Ski Holdings, LLC which proposes to install, operate, and maintain an aerial ropeway system connecting the Squaw Valley and Alpine Meadows ski areas. This proposal also included an alteration to current avalanche mitigation techniques including the installation of Gazex® exploders. Implementation of the proposal would require an amendment to an existing Special Use Permit (SUP) issued for the operation and maintenance of Alpine Meadows Ski Area (Alpine Meadows). The proposal is consistent with Alpine Meadows' current Master Development Plan (MDP) and passed the screening criteria for consideration to use National Forest System (NFS) lands and amend the existing permit consistent with Forest Service land use regulations.

DATES: Comments concerning the scope of the analysis must be received by May 31, 2016. The draft environmental impact statement is expected in winter 2016 and the final environmental impact statement is expected in summer 2017.

ADDRESSES: Send written comments to: Eli Ilano, Tahoe National Forest Supervisor, c/o NEPA Contractor, P.O. Box 2729, Frisco, CO 80443. Comments may also be submitted on the project Web site: http://squawalpinegondola-eis.com/comment/, or sent via email to scoping_comment@squawalpinegondola-eis.com. Two public meetings will be held on May 9, 2016 at the Resort at Squaw Creek, Monument Peak Room, 400 Squaw Creek Road, Olympic Valley, California. Additional information regarding the meetings is provided below in the “Scoping Process” section.

FOR FURTHER INFORMATION CONTACT: Additional information related to the proposed project can be obtained from the project Web site, http://squawalpinegondola-eis.com/, or by contacting Joe Flannery, Winter Sports Specialist. Mr. Flannery can be reached by phone at (530) 587-3558 extension 243 or by email at jflannery@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The TNF's purpose for the project is to improve developed winter recreation opportunities in the Scott Management Area, consistent with the 1990 Tahoe National Forest Land and Resource Management Plan as amended (Forest Plan). SUPs, and amendments to SUPs, are issued by the Forest Service and are required by law to be consistent with the Forest Plan. Desired future conditions for recreation management in the Forest Plan relevant to the project direct the Forest to “provide a variety of opportunities for developed and dispersed recreation experiences” (Forest Plan, p. V-5). The Alpine Meadows SUP is located in the Scott Management Area which allows for development of additional winter sports facilities and support services as part of the desired future condition of the management area (Forest Plan, p. V-446-449).

The TNF needs to respond to Squaw Valley Ski Holdings, LLC's land use application which proposes amendment of their SUP to improve connectivity between Alpine Meadows and Squaw Valley ski areas. The need for improved connectivity between the ski areas is based on a number of factors. The developed trail network at Squaw Valley has limited terrain suitable for beginners and teaching; Alpine Meadows has additional intermediate and beginner terrain. Squaw Valley has the majority of resort amenities (e.g., accommodations, restaurants, shopping, entertainment, etc.); Alpine Meadows, in contrast, has limited amenities. While guests can currently access both ski areas on the same lift ticket, they must drive or shuttle between the two areas in order to access all the different terrain variety and/or amenities offered at both locations.

Proposed Action

The Proposed Action includes amendment of the Alpine Meadows Special Use Permit to authorize construction, operation and maintenance of the following proposed infrastructure and improvements: (1) Construction of a gondola connecting the ski and base areas of Alpine Meadows and Squaw Valley, and (2) installation of eight Gazex avalanche mitigation exploders (seven on NFS lands, one on private lands). Additional information and maps of this proposal can be found at: http://squawalpinegondola-eis.com/.

Responsible Official

The Responsible Official is the Tahoe National Forest Supervisor.

Nature of Decision To Be Made

The decision to be made is whether to authorize the Proposed Action as described above, to modify the project to meet the purpose and need while addressing issues raised in public scoping, or to take no action at this time.

Permits or Licenses Required

The project would require an amendment to the Alpine Meadows Special Use Permit, issued by the United States Forest Service.

In addition to analysis under the National Environmental Policy Act (NEPA), Placer County will prepare an Environmental Impact Report to analyze environmental impacts of the proposal pursuant to the California Environmental Quality Act (CEQA). The Forest Service and Placer County will coordinate the NEPA and CEQA analyses for consistency.

Scoping Process

This notice of intent initiates the scoping process, which guides the development of the environmental impact statement. The Forest Service is soliciting comments from Federal, State and local agencies and other individuals or organizations that may be interested in or affected by implementation of the proposed project. Two public meetings will be held on May 9, 2016 to gather comments on the scope of the project. Both meetings will be held at the Resort at Squaw Creek, Monument Peak Room, 400 Squaw Creek Road, Olympic Valley, California. The first meeting will be held from 2:00-4:00 p.m. and the second will be held from 6:00-8:00 p.m. These meetings will be held jointly with Placer County regarding their analysis of the project under California Environmental Quality Act. Representatives from the TNF, Squaw Valley Ski Holdings, LLC, and Placer County will be present to answer questions and provide additional information on this project.

This project will be subject to 36 CFR 218 Project-level Predecisional Administrative Review Process (Parts A and B). Individuals and entities who have submitted timely, specific written comments regarding a proposed project or activity during public comment periods, including this 30-day public scoping period, may file an objection (36 CFR 218.5(a)). Written comments received, including the names and addresses of those who comment, will be considered part of the public record on this proposal and will be available for public inspection (36 CFR 218.25(b)(2)). For purposes of meeting the 36 CFR 218.5 eligibility requirements, the public scoping period will end 30 days from the date the Notice of Intent is published in the Federal Register.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: April 19, 2016.
Eli Ilano,
Forest Supervisor, Tahoe National Forest.

[FR Doc. 2016-09672 Filed 4-28-16; 8:45 am]

BILLING CODE 3410-11-P